DEPARTMENT OF DEFENSE

Office of the Secretary of Defense

[DOD-2006-OS-0202]

Privacy Act of 1974; System of Records

AGENCY: National Reconnaissance Office.

ACTION: Notice to alter a system of records.

SUMMARY: The National Reconnaissance Office is proposing to alter a system of records notice in its existing inventory of record systems subject to the Privacy Act of 1974, (5 U.S.C. 552a), as amended.

DATES: This proposed action will be effective without further notice on November 6, 2006 unless comments are received which result in a contrary determination.

ADDRESSES: Send comments to the FOIA/Privacy Official, National Reconnaissance Office, Information Access and Release, 14675 Lee Road, Chantilly, VA 20151-1715.

FOR FURTHER INFORMATION CONTACT: Ms. Linda Hathaway at (703) 227-9128.

SUPPLEMENTARY INFORMATION: The National Reconnaissance Office systems of records notices subject to the Privacy Act of 1974, (5 U.S.C. 552a), as amended, have been published in the Federal Register and are available from the address above.

The proposed system report, as required by 5 U.S.C. 552a(r) of the Privacy Act of 1974, as amended, was submitted on September 29, 2006, to the House Committee on Government Reform, the Senate Committee on Governmental Affairs, and the Office of Management and Budget (OMB) pursuant to paragraph 4c of Appendix I, “Federal Agency Responsibilities for Maintaining Records About Individuals”, to OMB Circular No. A-130, dated November 30, 2000.

Dated: October 2, 2006.
C.R. Choate,
Alternate OSD Federal Register Liaison Officer, Department of Defense.

QNRO-23

System name:

Counterintelligence Issue Files (January 8, 2001, 66 FR 1311).

Changes:

* * * * *

System Location:

Delete the name of the office and replace with “Office of Security and Counterintelligence.”

Categories of Records in the System:

Add to the entry “date, license plate, vehicle description, driver's license number, description of person, passport number, dates, location of incident, Vehicle Criminal Information Network (VCIN) number, address or criminal data if VCIN checked, and work telephone number.”

Authority for maintenance of the System:

Delete entry and replace with “5 U.S.C. 301, Departmental Regulations; National Security Act of 1947, as amended, 50 U.S.C. 401, et.seq.; E.O. 9397 (SSN); E.O. 12333; DoD 5240.1-R, Procedures Governing the Activities of DoD Intelligence Components That Affect United States Persons.”

Purposes:

Add to the entry “and to collect data regarding unusual or suspicious events at or near NRO facilities.”

* * * * *

Storage:

Delete entry and replace with “Paper files and/or automated information systems.”

Retrievability:

Delete entry and replace with “Name, social security number, organization, company, country, date and location of incident, vehicle description, and license plate number.”

Safeguards:

Delete the entry and replace with “Records are stored in a secure, gated facility, that is guarded. Access to and use of these records, to include electronic data stored on a local area network that is password restricted, is limited to personnel of the Office of Security and Counterintelligence whose official duties require access.”

* * * * *

System Manager(s) and address:

Delete name of office and replace with “Office of Security and Counterintelligence.”

* * * * *

Contesting record procedures:

Delete “110-3A” and replace with “110-3b” and delete “110-5A” and replace with “110-3-1.”

* * * * *

QNRO-23

System name:

Counterintelligence Issue Files.

System location:

Office of Security and Counterintelligence, National Reconnaissance Office, 14675 Lee Road, Chantilly, VA 20151-1715.

Categories of individuals covered by the system:

National Reconnaissance Office civilian, military, and contractor personnel who have had foreign travel contacts, incidents, or concerns, and any persons relating to a counterintelligence concern, incident or inquiry, as well as the points of contact.

Categories of records in the system:

Name, Social Security Number, organization, company, date and place of birth, country, action officer, date received, point of contact, status of the case including investigatory materials and files, date, license plate, vehicle description, driver's license number, description of person, passport number, dates, location of incident, Vehicle Criminal Information Network (VCIN) number, address or criminal data if VCIN checked, and work telephone number.

Authority for maintenance of the system:

5 U.S.C. 301, Departmental Regulations; National Security Act of 1947, as amended, 50 U.S.C. 401, et.seq.; E.O. 9397 (SSN); E.O. 12333; DoD 5240.1-R, Procedures Governing the Activities of DoD Intelligence Components That Affect United States Persons.

Purpose(s):

Information is used to assign, categorize and administratively track foreign travel, contacts, and incidents or concerns; monitor, analyze, and track counterintelligence activities; prepare and pursue investigations involving counterintelligence activities; and to collect data regarding unusual or suspicious events at or near NRO facilities.

Routine use of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routines Uses’ published at the beginning of the NRO compilation of systems of records notices apply to this system.

Policies and practices for storing, retrieving, accessing, retaining, and disposing of records in the system:

Storage:

Paper files and/or automated information systems.

Retrievability:

Name, social security number, organization, company, country, date and location of incident, vehicle description, and license plate number.

Safeguards:

Records are stored in a secure, gated facility, that is guarded. Access to and use of these records, to include electronic data stored on a local area network that is password restricted, is limited to personnel of the Office of Security and Counterintelligence whose official duties require access.

Retention and disposal:

Records are permanent.

System manager(s) and address:

Director, Office of Security and Counterintelligence, National Reconnaissance Office, 14675 Lee Road, Chantilly, VA 20151-1715.

Notification procedure:

Individuals seeking to determine whether this system of records contains information about themselves should address written inquiries to the National Reconnaissance Office, Information Access and Release Center, 14675 Lee Road, Chantilly, VA 20151-1715.

Request should include the individual's full name and any aliases or nicknames, address, Social Security Number, current citizenship status, date and place of birth.

In addition, the requester must provide a notarized statement or an unsworn declaration made in accordance with 28 U.S.C. 1746, in the following format:

If executed outside the United States: ‘I declare (or certify, verify, or state) under penalty of perjury under the laws of the United States of America that the foregoing is true and correct. Executed on (date). (Signature).’

If executed within the United States, its territories, possessions, or commonwealths: ‘I declare (or certify, verify, or state) under penalty of perjury that the foregoing is true and correct. Executed on (date). (Signature).’

Record access procedures:

Individuals seeking to access information about themselves contained in this system should address written inquiries to the National Reconnaissance Office, Information Access and Release Center, 14675 Lee Road, Chantilly, VA 20151-1715. Request should include the individual's full name, and any aliases or nicknames, address, Social Security Number, current citizenship status, date and place of birth.

In addition, the requester must provide a notarized statement or an unsworn declaration made in accordance with 28 U.S.C. 1746, in the following format:

If executed without the United States: ‘I declare (or certify, verify, or state) under penalty of perjury under the laws of the United States of America that the foregoing is true and correct. Executed on (date). (Signature).'

If executed within the United States, its territories, possessions, or commonwealths: ‘I declare (or certify, verify, or state) under penalty of perjury that the foregoing is true and correct. Executed on (date). (Signature).'

Contesting record procedures:

The NRO rules for accessing records, for contesting contents and appealing initial agency determinations are published in NRO Directive 110-3b and NRO Instruction 110-3-1; 32 CFR part 326; or may be obtained from the Privacy Act Coordinator, National Reconnaissance Office, 14675 Lee Road, Chantilly, VA 20151-1715.

Record source categories:

Information is supplied by the individual, by parties other than the individual, and by government agencies.

Exemptions claimed for the system:

Investigatory material compiled for law enforcement purposes may be exempt pursuant to 5 U.S.C. 552a(k)(2). However, if an individual is denied any right, privilege, or benefit for which he would otherwise be entitled by Federal law or for which he would otherwise be eligible, as a result of the maintenance of such information, the individual will be provided access to such information except to the extent that disclosure would reveal the identity of a confidential source.

Investigatory material compiled solely for the purpose of determining suitability, eligibility, or qualifications for Federal civilian employment, military service, Federal contracts, or access to classified information may be exempt pursuant to 5 U.S.C. 552a(k)(5), but only to the extent that such material would reveal the identity of a confidential source.

An exemption rule for this exemption has been promulgated in accordance with requirements of 5 U.S.C. 553(b)(1), (2), and (3), (c) and (e) and published in 32 CFR part 505. For additional information contact the system manager.

[FR Doc. E6-16554 Filed 10-5-06; 8:45 am]

BILLING CODE 5001-06-P